DEPARTMENT OF TRANSPORTATION

Federal Aviation Administration

14 CFR Part 39

[Docket No. FAA-2015-1280; Directorate Identifier 2014-NM-064-AD]

RIN 2120-AA64

Airworthiness Directives; ATR-GIE Avions de Transport Régional Airplanes

AGENCY: Federal Aviation Administration (FAA), DOT.

ACTION: Notice of proposed rulemaking (NPRM).

SUMMARY: We propose to adopt a new airworthiness directive (AD) for certain ATR-GIE Avions de Transport Régional Model ATR42-500 airplanes, and Model ATR72-102, -202, -212, and -212A airplanes. This proposed AD was prompted by a report of chafed wires between electrical harnesses. This proposed AD would require inspections for wiring discrepancies, and corrective actions if necessary. We are proposing this AD to detect and correct damaged wiring and incorrect installation of the wiring harness and adjacent air ducts, which could lead to wire harness chafing and arcing, possibly resulting in an on-board fire.

DATES: We must receive comments on this proposed AD by June 26, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact ATR-GIE Avions de Transport Régional, 1, Allée Pierre Nadot, 31712 Blagnac Cedex, France; telephone +33 (0) 5 62 21 62 21; fax +33 (0) 5 62 21 67 18; email continued.airworthiness@atr.fr; Internet http://www.aerochain.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-1280; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, WA 98057-3356; telephone (425) 227-1137; fax (425) 227-1149.

SUPPLEMENTARY INFORMATION:

Comments Invited

We invite you to send any written relevant data, views, or arguments about this proposed AD. Send your comments to an address listed under the ADDRESSES section. Include “Docket No. FAA-2015-1280; Directorate Identifier 2014-NM-064-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA Airworthiness Directive 2014-0052R1, dated April 7, 2014 (referred to after this as the Mandatory Continuing Airworthiness Information, or “the MCAI”), to correct an unsafe condition for certain ATR-GIE Avions de Transport Régional Model ATR42-500 airplanes, and Model ATR72-102, -202, -212, and -212A airplanes. The MCAI states:

An erroneous cockpit indication has been reported on an in-service aircraft. Subsequent investigation identified chafed wiring between harnesses (2M-2S-6M) and the metallic structure of the cargo lining panel above the electronic rack 90VU shelf. The chafing was most likely the result of incorrect harness installation. In some cases, the bracket, which supports the harnesses, could be incorrectly positioned. Consequently, the wiring harnesses, and in certain configurations, the adjacent air duct, could be incorrectly routed.

This condition, if not detected and corrected, could lead to wiring harness chafing and arcing, possibly resulting in an on-board fire.

To address this potential unsafe condition, ATR issued Service Bulletin (SB) ATR42-92-0024 and SB ATR72-92-1032, as applicable to aeroplane model, to provide inspection instructions.

For the reasons described above, EASA issued AD 2014-0052 [http://www.casa.gov.au/wcmswr/_assets/main/lib100154/2014-0052.pdf] to require a one-time visual inspection of the affected area including a systematic bracket position check and, depending on findings, accomplishment of applicable corrective actions.

This [EASA] AD is revised to make the bracket position check dependent on findings, determined during the inspection of the electrical bundle and air duct routing. Corrective actions include repairing damaged wiring, correctly installing the bracket which supports bundle 2M-2S-6M, and routing bundle 2M-2S-6M and the air conditioning flexible hose in the correct positions.

You may examine the MCAI in the AD docket on the Internet at http://www.regulations.gov by searching for and locating Docket No. FAA-2015-1280.

Related Service Information Under 1 CFR Part 51

ATR-GIE Avions de Transport Régional has issued Service Bulletin ATR42-92-0024, Revision 01, dated January 16, 2014. The service information describes procedures for inspecting the electrical harness routing on the top of 90VU electric rack and to modify it if necessary.

ATR-GIE Avions de Transport Régional has also issued Service Bulletin ATR72-92-1032, Revision 01, dated January 16, 2014. The service information describes procedures for inspecting the electrical harness routing on the top of 90VU electric rack and to modify it if necessary.

The actions described in this service information are intended to correct the unsafe condition identified in the MCAI. This service information is reasonably available because the interested parties have access to it through their normal course of business or by the means identified in the ADDRESSES section of this NPRM.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 1 airplane of U.S. registry.

We also estimate that it would take about 1 work-hour per product to comply with the basic requirements of this proposed AD. The average labor rate is $85 per work-hour. Based on these figures, we estimate the cost of this proposed AD on U.S. operators to be $85, or $85 per product.

In addition, we estimate that any necessary follow-on actions would take about 3 work-hours and require parts costing $82, for a cost of $337 per product. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

ATR-GIE Avions de Transport Régional: Docket No. FAA-2015-1280; Directorate Identifier 2014-NM-064-AD.

(a) Comments Due Date

We must receive comments by June 26, 2015.

(b) Affected ADs

None.

(c) Applicability

This AD applies to the ATR-GIE Avions de Transport Régional airplanes identified in paragraphs (c)(1) and (c)(2) of this AD, certificated in any category.

(1) Model ATR42-500 airplanes, serial numbers 443 through 1006 inclusive, except serial numbers 811, 1002, and 1005.

(2) Model ATR72-102, -202, -212, and -212A airplanes, serial numbers 475 through 969 inclusive, 971 through 988 inclusive, 1025, 1028 through 1069 inclusive, and 1072, except serial numbers 956 and 1042.

(d) Subject

Air Transport Association (ATA) of America Code 92, Electrical Routing.

(e) Reason

This AD was prompted by a report of chafed wires between electrical harnesses. We are issuing this AD to detect and correct damaged wiring and incorrect installation of the wiring harness and adjacent air ducts, which could lead to wire harness chafing and arcing, possibly resulting in an on-board fire.

(f) Compliance

Comply with this AD within the compliance times specified, unless already done.

(g) Inspections

Within 500 flight hours after the effective date of this AD, do the actions specified in paragraphs (g)(1) and (g)(2) of this AD, in accordance with the Accomplishment Instructions of Avions de Transport Régional Service Bulletin ATR42-92-0024, Revision 01, dated January 16, 2014; or Avions de Transport Régional Service Bulletin ATR72-92-1032, Revision 01, dated January 16, 2014; as applicable.

(1) Do a general visual inspection for damage of the electrical wires of bundle 2M-2S-6M.

(2) Do a general visual inspection for correct routing of electrical bundle 2M-2S-6M, and correct routing of the air duct.

(h) Corrective Actions

(1) If, during the inspection required by paragraph (g)(1) of this AD, any damage is found on the electrical wires: Before further flight, repair the wires, in accordance with the Accomplishment Instructions of Avions de Transport Régional Service Bulletin ATR42-92-0024, Revision 01, dated January 16, 2014; or Avions de Transport Régional Service Bulletin ATR72-92-1032, Revision 01, dated January 16, 2014; as applicable.

(2) If, during the inspection required by paragraph (g)(2) of this AD, electrical bundle 2M-2S-6M and/or an air duct is found to be incorrectly routed: Within 500 flight hours after the effective date of this AD, do a general visual inspection for correct positioning of the bracket, in accordance with the Accomplishment Instructions of Avions de Transport Régional Service Bulletin ATR42-92-0024, Revision 01, dated January 16, 2014; or Avions de Transport Régional Service Bulletin ATR72-92-1032, Revision 01, dated January 16, 2014; as applicable.

(i) If, during the inspection required by paragraph (h)(2) of this AD, the bracket is found to be correctly positioned: Within 500 flight hours after the effective date of this AD, do all applicable corrective actions, in accordance with the Accomplishment Instructions of Avions de Transport Régional Service Bulletin ATR42-92-0024, Revision 01, dated January 16, 2014; or Avions de Transport Régional Service Bulletin ATR72-92-1032, Revision 01, dated January 16, 2014; as applicable.

(ii) If, during the inspection required by paragraph (h)(2) of this AD, the bracket is found to be missing or incorrectly positioned: Within 500 flight hours after the inspection required by paragraph (h)(2) of this AD, repair using a method approved by the Manager, International Branch, ANM-116, Transport Airplane Directorate, FAA; or the European Aviation Safety Agency (EASA); or ATR-GIE Avions de Transport Régional's EASA Design Organization Approval (DOA).

(i) Credit for Previous Actions

This paragraph provides credit for actions required by this AD, if those actions were performed before the effective date of this AD using Avions de Transport Régional Service Bulletin ATR42-92-0024, dated June 6, 2013; or Avions de Transport Régional Service Bulletin ATR72-92-1032, dated June 6, 2013; as applicable; which are not incorporated by reference in this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone (425) 227-1137; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the EASA; or ATR-GIE Avions de Transport Régional's EASA DOA. If approved by the DOA, the approval must include the DOA-authorized signature.

(k) Related Information

(1) Refer to Mandatory Continuing Airworthiness Information (MCAI) EASA Airworthiness Directive 2014-0052R1, dated April 7, 2014, for related information. This MCAI may be found in the AD docket on the Internet at http://www.regulations.gov by searching for and locating Docket No. FAA-2015-1280.

(2) For service information identified in this AD, contact ATR-GIE Avions de Transport Régional, 1, Allée Pierre Nadot, 31712 Blagnac Cedex, France; telephone +33 (0) 5 62 21 62 21; fax +33 (0) 5 62 21 67 18; email continued.airworthiness@atr.fr; Internet http://www.aerochain.com. You may view this service information at the FAA, Transport Airplane Directorate, 1601 Lind Avenue SW., Renton, WA. For information on the availability of this material at the FAA, call 425-227-1221.

Issued in Renton, Washington, on May 1, 2015.
Jeffrey E. Duven,
Manager, Transport Airplane Directorate, Aircraft Certification Service.

[FR Doc. 2015-11350 Filed 5-11-15; 8:45 am]

BILLING CODE 4910-13-P